DEPARTMENT OF THE INTERIOR

Bureau of Land Management

[NM-220-1430-ET; NMNM 66022]

Public Land Order No. 7686; Extension of Public Land Order No. 6675; New Mexico

AGENCY: Bureau of Land Management, Interior.

ACTION: Public land order.

SUMMARY: This order extends the duration of the withdrawal created by Public Land Order No. 6675 for an additional 20-year period. This extension is necessary to continue the protection of the Bureau of Land Management's Quartzite and County Line Recreational Sites along the Rio Grande in Taos and Rio Arriba Counties.

DATES: Effective Date: May 6, 2008.

FOR FURTHER INFORMATION CONTACT: Lora Yonemoto, BLM Taos Field Office, 226 Cruz Alta Road, Taos, New Mexico 87571, 505-751-4709.

Order

By virtue of the authority vested in the Secretary of the Interior by Section 204 of the Federal Land Policy and Management Act of 1976, 43 U.S.C. 1714 (2000), it is ordered as follows:

1. Public Land Order No. 6675 (53 FR 16269), which withdrew 264.39 acres of public lands from settlement, sale, location or entry under the general land laws including the mining laws to protect the recreational values and Federal investment in improvements at the Fishing Hole Recreational Site (now named Quartzite) and County Line Recreational Sites, is hereby extended for an additional 20-year period.

2. Public Land Order No. 6675 will expire on May 5, 2028, unless, as a result of a review conducted prior to the expiration date pursuant to Section 204(f) of the Federal Land Policy and Management Act of 1976, 43 U.S.C. 1714(f) (2000), the Secretary determines that the withdrawal shall be extended.

Dated: November 13, 2007.
C. Stephen Allred,
Assistant Secretary—Land and Minerals Management.

[FR Doc. E7-24558 Filed 12-18-07; 8:45 am]

BILLING CODE 4310-FB-P